DEPARTMENT OF COMMERCE

National Oceanic and Atmospheric Administration

50 CFR Part 216

[Docket No. 080310408-81008-02]

RIN 0648-AW55

Marine Mammals; Subsistence Taking of Northern Fur Seals; Harvest Estimates

AGENCY: National Marine Fisheries Service (NMFS), National Oceanic and Atmospheric Administration (NOAA), Commerce.

ACTION: Final estimates of annual fur seal subsistence needs.

SUMMARY: Pursuant to the regulations governing the subsistence taking of northern fur seals, NMFS is publishing the annual fur seal subsistence harvests on St. George and St. Paul Islands (the Pribilof Islands) for 2005 to 2007, and the annual estimates for the fur seal subsistence needs for 2008 through 2010. NMFS estimates the annual subsistence needs are 1,645-2,000 seals on St. Paul and 300-500 seals on St. George.

DATES: Effective September 22, 2008.

FOR FURTHER INFORMATION CONTACT: Michael Williams, (907) 271-5117, email Michael.Williams@noaa.gov; Kaja Brix, (907) 586-7824, email Kaja.Brix@noaa.gov; or Tom Eagle, (301) 713-2322, ext. 105, email Tom.Eagle@noaa.gov.

SUPPLEMENTARY INFORMATION:

Electronic Access

A Final Environmental Impact Statement is available on the Internet at the following address: http://www.fakr.noaa.gov/protectedresources/seals/fur.htm.

The subsistence harvest from the depleted stock of northern fur seals on the Pribilof Islands, AK, is governed by regulations found in 50 CFR part 216, subpart F, Taking for Subsistence Purposes. The regulations require NMFS to publish every 3 years a summary of the harvest in the preceding 3 years and a discussion of the number of fur seals expected to be taken over the next 3 years to satisfy the subsistence requirements of residents of the Pribilof Islands (St. Paul and St. George). After a 30-day comment period, NMFS must publish a final notification of the expected annual harvest levels for the next 3 years.

On June 3, 2008 (73 FR 31666), NMFS published the summary of the 2005-2007 fur seal harvests and provided a 30-day comment period on proposed estimates of subsistence needs for 2008-2010. One comment letter was received on the proposed estimates. The letter identified one substantive point: The northern fur seal harvest is unnecessary. NMFS responds that the harvest of northern fur seals meets the dietary and cultural needs of the Pribilof Island Alaska Native residents (Pribilovians). The harvest is authorized by the Fur Seal Act and the Marine Mammal Protection Act and continues a tradition as reported in numerous government documents dating back to the late 1800s. NMFS estimates the annual subsistence needs are 1,645-2,000 juvenile male fur seals on St. Paul and 300-500 juvenile male fur seals on St. George. Background information related to these estimates was included in the proposed harvest estimates published in the Federal Register on June 3, 2008.

Classification

National Environmental Policy Act

NMFS prepared an EIS evaluating the impacts on the human environment of the subsistence harvest on northern fur seals. The final EIS is available on the Internet (see Electronic Access).

Executive Order 12866 and Regulatory Flexibility Act

This action has been determined to be not significant under Executive Order (E.O.) 12866. The Chief Counsel for Regulation, Department of Commerce, certified to the Chief Counsel for Advocacy of the Small Business Administration at the proposed rule stage that this action would not have a significant economic impact on a substantial number of small entities. Because the harvest of northern fur seals on the Pribilof Islands, AK, is for subsistence purposes only, the estimate of subsistence need would not have an economic effect on any small entities. Therefore, a regulatory flexibility analysis was not prepared.

Paperwork Reduction Act

This action does not require the collection of information.

Executive Order 13132

This action does not contain policies with federalism implications under E.O. 13132.

Executive Order 12898, Section 4-4, Subsistence Consumption of Fish and Wildlife.

Section 4-4, Executive Order 12898, requires Federal agencies to protect populations who consume fish and wildlife as part of their subsistence lifestyle, and to communicate to the public the potential health risks [from contaminants] involved as a result of eating fish and wildlife. NMFS has monitored and evaluated contaminant loads in northern fur seals in Alaska for nearly a decade and has reported this information to the Alaska Department of Health and Social Service, and to Alaska Native communities, as this information becomes available.

Executive Order 13175

Executive Order 13175 of November 6, 2000 (25 U.S.C. 450 Note), the executive Memorandum of April 29, 1994 (25 U.S.C. 450 note), and the American Indian Native Policy of the U.S. Department of Commerce (March 30, 1995) outline the responsibilities of the National Marine Fisheries Service in matters affecting tribal interests. Section 161 of Public Law 108-100 (188 Stat. 452) as amended by section 518 of Public Law 108-447 (118 Stat. 3267), extends the consultation requirements of E.O. 13175 to Alaska Native corporations. NMFS has contacted the tribal governments of St. Paul and St. George Islands and their respective local Native corporations (Tanadgusix and Tanaq) about setting the next three years harvest estimates and received their input. NMFS signed cooperative agreements with the tribal governments of St. Paul Island in 2000 and with St. George Island in 2001 pursuant to section 119 of the MMPA.

Dated: August 18, 2008.
Samuel D. Rauch III,
Deputy Assistant Administrator for Regulatory Programs, National Marine Fisheries Service.

[FR Doc. E8-19584 Filed 8-21-08; 8:45 am]

BILLING CODE 3510-22-S